DEPARTMENT OF ENERGY

Federal Energy Regulatory Commission

[Docket No. EL11-24-000]

SunZia Transmission, LLC; Notice of Petition for Declaratory Order

Take notice that on February 23, 2011, pursuant to Rule 207(a)(2) of the Rules of Practice and Procedure of the Federal Energy Regulatory Commission (Commission), 18 CFR 385.207(a)(2) (2010), SunZia Transmission, LLC (SunZia) filed a revised petition for declaratory order requesting that the Commission find that: (i) Tucson Electric Power Company (TEP), SouthWestern Power Group (SWPG), ECP SunZia, LLC (ECP SunZia), and Shell WindEnergy Inc. (SWE) (collectively SunZia Owners) each owns that portion of the SunZia Southwest Transmission Project (Project) equal to its pro rata share of investment in the Project,¹ (ii) SWPG, ECP SunZia, and SWE may allocate up to 50 percent of their pro rata shares of the Project to anchor customers through long-term firm negotiated rate contracts,² and (iii) electrical interconnection or transmission requests with respect to the Project are premature prior to the Project attaining sufficient maturity as to its permitting, licensing, determination of the final alignment, and determination of the resulting estimated costs.

¹ In addition to the SunZia Owners, Salt River Project Agricultural Improvement and Power District (SRP) and Tri-State Generation and Transmission Association, Inc. (TSGT) are sponsors of the Project. Neither SRP nor TSGT is a “public utility” within the meaning of section 201(e) of the Federal Power Act.

² The remaining sponsors of the Project, SRP, TSGT, and TEP—all existing load-serving entities with existing transmission systems—plan to incorporate their pro rata shares of the Project into their transmission systems and provide service pursuant to their respective open access transmission tariffs (OATTs). As non-public utilities, SRP and TSGT are not required to file their OATTs with the Commission.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on Thursday, March 17, 2011.

Dated: March 3, 2011.
Kimberly D. Bose,
Secretary.

[FR Doc. 2011-5324 Filed 3-8-11; 8:45 am]

BILLING CODE 6717-01-P